DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Scytovirins and Related Conjugates, Antibodies, Compositions, Nucleic Acids, Vectors, Host Cells, Methods of Production and Methods of Using Scytovirin

Michael R. Boyd, Barry R. O'Keefe, and Tawnya C. McKee, Molecular Targets Drug Discovery Program (MTDDP, NCI-Frederick) and Heidi R. Bokesch (SAIC-Frederick); DHHS Reference No. E-017-02/0 filed May 16 2002.

Licensing Contact: Sally Hu; 301/496-7056 ext. 265; e-mail: hus@od.nih.gov.

This invention provides: (1) Isolated and purified antiviral peptides or antiviral proteins named Scytovirins isolated and purified from aqueous extracts derived from the cyanobacteria, Scytonema varium; (2) an antibody which binds an epitope of Scytovirin isolated and purified from Scytonema varium; (3) a purified nucleic acid molecule that comprises a sequence which encodes an amino acid sequence homologous to Scytovirin; (4) a vector comprising the isolated and purified nucleic acid molecule and a host cell or organism comprising the vector; (5) a conjugate comprising the peptide and an effector component; and (6) a method of inhibiting prophylactically and therapeutically a viral infection. Thus, this invention may represent potential new therapeutics for treatment of retroviral infections, including AIDS.

Methods and Compositions for the Promotion of Hair Growth Utilizing Actin-Binding Peptides

Deborah Philp, Ph.D., Michael Elkin, Ph.D., and Hynda K. Kleinman, Ph.D. (NIDCR); DHHS Reference No. E-053-02/0 filed January 25, 2002.

Licensing Contact: Jonathan Dixon; 301/496-7056 ext. 270; e-mail: dixonj@od.nih.gov.

Hair loss (alopecia) is a condition that afflicts millions of men and women. Countless therapies and concoctions have been devised to battle the effects of receding hairlines. None of these are universally effective, and many have met with, at best, dubious success.

The present invention provides the basis for the development of a safe and effective treatment for hair loss. It describes the novel use of naturally occurring, actin-binding, peptides to activate hair follicles. In animal studies, topical application of such peptides increased the number of active hair follicles at least two-fold. After application three times a week, new hair growth was observed as early as on day 7, and was retained with additional applications. This invention may lead to a treatment for a condition that affects a large percentage of the population.

Stem Cells that Transform to Beating Cardiomyocytes

Neal D. Epstein (NHLBI); DHHS Reference No. E-329-01/0 filed October 22, 2001.

Licensing Contact: Fatima Sayyid; 301/496-7056 ext. 243; e-mail: sayyidf@od.nih.gov.

Many Americans die each year of congestive heart failure occurring from a variety of causes including cardiomyopathy, myocardial ischemia, congenital heart disease and valvular heart disease resulting in cardiac cell death and myocardial dysfunction. As cardiomyocytes are not replaced in adult myocardial tissue, physiologic demands on existing, healthy cardiomyocytes leads to their hypertrophy. Heart transplants have been the only recourse for patients in end-stage heart disease however this is complicated by lack of donors, tissue incompatibility and high cost.

An alternative approach to heart transplantation is to generate cardiomyocytes from stem cells in vitro that can be used in the treatment of cardiac diseases characterized by myocardial cell death or dysfunction.

This invention discloses a novel isolated population of stem cells, called spoc cells, that can be induced, either in vivo or in vitro, to differentiate into cardiomyocytes. Spoc cells may be differentiated and utilized for screening agents that affect cardiomyocytes and as therapeutic agents in the treatment of myocardial defects.

Maxp1

Geoffrey J. Clark, Michelle Vos (NCI); DHHS Reference No. E-165-01/0 filed September 19, 2001.

Licensing Contact: Matthew Kiser; 301/496-7056 ext. 224; e-mail: kiserm@od.nih.gov.

The subject invention is directed to the cDNA sequence and the deduced amino acid sequence of the human Maxp1 gene. Maxp1 is frequently down-regulated in primary human tumors. Accordingly, a vector comprising the cDNA sequence, a host cell comprising such a vector, a method of using the vector, such as one comprising a cDNA sequence in which the C-terminal Ras binding site has been mutated or deleted, or the polypeptide (or fragment thereof, such as one in which the C-terminal Ras binding site has been mutated or deleted) in the prophylactic and therapeutic treatment of cancer, a method of assaying small molecules for the ability to stimulate Maxp1 growth inhibitory function in cancer cells that remain positive for Maxp1 expression, and the assessment of the levels of Maxp1 mRNA or protein in the diagnosis, characterization and prognosis of cancer are additional, non-limiting embodiments of the invention.

Further embodiments include: (a) Diagnosis and prediction of tumor characteristics, (b) gene therapy to restore Nore1/Maxp1 function in tumor cells which have lost protein expression, (c) the use of small molecules to simulate Nore1/Maxp1 growth inhibitory function in tumor cells which remain positive for Nore1/Maxp1 expression, (d) the use of protein fragments/small molecules based on Nore1/Maxp1 structure to bind and inhibit the function of mutant Ras oncoproteins, and (e) a specific polyclonal antibody that works in westerns and in immunohistochemistry.

Dated: August 22, 2002.
Jack Spiegel,
Director, Division of Technology Development and Transfer, Office of Technology Transfer, National Institutes of Health.

[FR Doc. 02-22077 Filed 8-28-02; 8:45 am]

BILLING CODE 4140-01-P